DEPARTMENT OF JUSTICE

Notice of Lodging of Consent Decree Pursuant to the Comprehensive Environmental Response, Compensation and Liability Act

In accordance with Department of Justice policy codified at 28 CFR 50.7 and Section 122 of the Comprehensive Environmental Response, Compensation and Liability Act of 1980, as amended (“CERCLA”), 42 U.S.C. 9622, notice is hereby given that on July 24, 2001, a proposed consent decree in United States v. Dayton Power & Light Co., et al., No. C-3-98-451, was lodged with the United States District Court for the Southern District of Ohio. The proposed consent decree would settle the United States' claims against eleven Settling Defendants under CERCLA section 107(a)(3), 42 U.S.C. 9607(a)(3), for the recovery of response costs incurred or to be incurred by the United States in connection with the Sanitary Landfill (IWD) Superfund Site (“Site”) in Moraine, Ohio. The proposed consent decree would also resolve the potential liability of the U.S. Department of Energy (“DOE”) for Site response costs. Each of the Settling Defendants is a generator of waste disposed at the Site, which was operated as a licensed landfill by Sanitary Landfill Company and its successor corporations from 1971 to 1980. The U.S. Environmental Protection Agency (“EPA”) incurred costs of approximately $1.2 million in responding to the release or threatened release of hazardous substances at the Site.

Under the terms of the consent decree, the Settling Defendants and DOE agree to pay $303,971 and $5,335, respectively, within thirty (30) days of entry of the consent decree, as reimbursement of response costs. In consideration for these payments, the Settling Defendants will receive a covenant not to sue for Site response costs, DOE will receive a covenant that EPA will not take administrative action against it related to the Site, and both the Settling Defendants and DOE will receive contribution protection for Site response costs. The settlement amounts to be paid by the Settling Defendants and DOE are based on allocation percentages of waste contributed to the Site.

For a period of thirty (30) days from the date of the publication, Department of Justice will receive comments related to the proposed consent decree. Comments should be addressed to the Acting Assistant Attorney General, Environment and Natural Resources Division, U.S. Department of Justice, 950 Pennsylvania Avenue, NW, Washington, DC 20530, and should refer to United States v. Dayton Power & Light Co., et al., Civil Action No. C-3-98-451; D.J. Ref. No. 90-11-2-1113A.

The consent decree may be examined at the Office of the United States Attorney, 602 Federal Building, 200 W. 2nd Street, Dayton, Ohio 45402, and at the U.S. Environmental Protection Agency, Region 5, 77 West Jackson Boulevard, Chicago, Illinois 60604. A copy of the consent decree may also be obtained by mail from the Consent Decree Library, P.O. Box 7611, U.S. Department of Justice, Washington, DC 20044-7611. In requesting a copy, please enclose a check in the amount of $8.75 (35 pages at 25 cents per page reproduction cost).

William Brighton,
Assistant Section Chief, Environmental Enforcement Section, Environment and Natural Resources Division.

[FR Doc. 01-19390 Filed 8-2-01; 8:45 am]

BILLING CODE 4410-15-M